DEPARTMENT OF ENERGY

Orders Granting Authority To Import and Export Natural Gas, and To Import Liquefied Natural Gas During June 2013

| FE Docket Nos.
CONOCOPHILLIPS COMPANY | 13-66-NG
CONOCOPHILLIPS COMPANY | 13-67-LNG
APACHE CORPORATION | 13-68-NG
BIG SKY GAS LLC | 13-61-NG
PACIFIC SUMMIT ENERGY LLC | 13-63-NG
EMERA ENERGY SERVICES, INC | 13-70-NG
REPSOL ENERGY NORTH AMERICA CORPORATION | 13-73-NG
OXY ENERGY CANADA, INC | 13-74-NG

AGENCY: Office of Fossil Energy, Department of Energy (DOE).

ACTION: Notice of orders.

SUMMARY: The Office of Fossil Energy (FE) of the Department of Energy gives notice that during June 2013, it issued orders granting authority to import and export natural gas and to import liquefied natural gas. These orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on June 25, 2013.
John A. Anderson,
Manager, Natural Gas Regulatory Activities, Office of Oil and Gas Global Security and Supply, Office of Fossil Energy.

Appendix

DOE/FE Orders Granting Import/Export Authorizations
Order No. | Date issued | FE docket No. | Authorization holder | Description of action
3295 | 06/18/13 | 13-66-NG | ConocoPhillips Company | Order granting blanket authority to import/export natural gas from/to Canada/Mexico.
3296 | 06/18/13 | 13-67-LNG | ConocoPhillips Company | Order granting blanket authority to export LNG to Canada/Mexico by vessel, and to import LNG from various international sources by vessel.
3297 | 06/18/13 | 13-68-NG | Apache Corporation | Order granting blanket authority to import/export natural gas from/to Canada.
3298 | 06/18/13 | 13-61-NG | Big Sky Gas LLC | Order granting blanket authority to import natural gas from Canada.
3299 | 06/18/13 | 13-63-NG | Pacific Summit Energy LLC | Order granting blanket authority to import/export natural gas from/to Canada/Mexico, and to import LNG from various international sources by vessel.
3300 | 06/18/13 | 13-70-NG | Emera Energy Services, Inc. | Order granting blanket authority to import/export natural gas from/to Canada.
3301 | 06/18/13 | 13-73-NG | Repsol Energy North America Corporation | Order granting blanket authority to export natural gas to Canada.
3302 | 06/18/13 | 13-74-NG | Oxy Energy Canada, Inc. | Order granting blanket authority to import/export natural gas from/to Canada.

[FR Doc. 2013-18517 Filed 7-31-13; 8:45 am]

BILLING CODE 6450-01-P